DEPARTMENT OF JUSTICE

Lodging of Consent Decrees Under the Comprehensive Environmental Response, Compensation and Liability Act (“CERCLA”)

Notice is hereby given that nine proposed consent decrees in United States v. Mountain Metal Company, et al., Civil Action No. CV-98-C-2562-S, and consolidated action Exide Corporation and Johnson Controls, Inc. v. Aaron Scrap Metals, et al., Civil Action No. CV-98-J-2886-S, were lodged on August 1, 2000 with the United States District Court for the Northern District of Alabama, Southern Division.

In these actions, the United States has sought recovery of response costs under section 107 of CERCLA, 42 U.S.C. 9607, and Exide Corporation and Johnson Controls, Inc. have sought recovery of response costs under section 113 of CERCLA, 42 U.S.C. 9613, against over forty defendants with respect to the Interstate Lead Company (“ILCO”) Superfund Site, located in Leeds, Jefferson County, Alabama (“the Site”).

The United States has now agreed to settlement of its claims under sections 106 and 107 of CERCLA, 42 U.S.C. 9606 and 9607, for existing contamination at the Site with respect to nine defendants: (1) Arch Metals, Inc.; (2) Del's Metals Co., Inc.; (3) Harry Gordon Scrap Materials, Inc.; (4) Kar-Life Battery Company, Inc.; (5) Lead Products Co., Inc.; (6) Mixon, Inc.; (7) Mountain Metal Company, Inc.; (8) T.A. Pollack Co., Inc.; and (9) Wooster Iron & Metal Company f/k/a Metallics Recycling, Inc. Under the consent decrees, the companies will pay the following amounts to the United States: (1) $17,000 for Arch Metals, Inc.; (2) $20,400 for Del's Metals, Inc.; (3) $83,640 for Harry Gordon Scrap Materials, Inc.; (4) $11,560 for Kar-Life Battery Company, Inc.; (5) $90,870 for Lead Products Co., Inc.; (6) $17,820 for Mixon, Inc.; (7) $170,000 for Mountain Metal Company, Inc.; (8) $14,500 for T.A. Pollack Co., Inc. and (9) $63,933 for Wooster Iron & Metal Company f/k/a Metallics Recycling, Inc.

The Department of Justice will receive, for a period of thirty (30) days from the date of this publication, comments relating to the proposed consent decrees. Comments should be addressed to the Assistant Attorney General of the Environment and Natural Resources Division, P.O. Box 7611, Department of Justice, Washington, D.C. 20044, and should refer to United States v. Mountain Metal Company, et al., Civil Action No. CV-98-C-2562-S, and consolidated action Exide Corporation and Johnson Controls, Inc., v. Aaron Scrap Metals, et al., Civil Action No. CV-98-J-2886-S, and DOJ # 90-11-2-108/2.

Any of the proposed consent decrees may be examined at the Office of the United States Attorney, Northern District of Alabama, 200 Robert S. Vance Federal Building & Courthouse, 1800 5th Ave. N., Room 200, Birmingham, AL 35203-2198, and at U.S. EPA Region 4, Atlanta Federal Center, 61 Forsyth Street, S.W. Atlanta, Georgia 30303. A copy of any of the proposed Consent Decrees also may be obtained by mail from the Department of Justice Consent Decree Library, P.O. Box 7611, Washington, D.C. 20044. In requesting a copy, please enclose a check in the amount of $8.00 (25 cents per page reproduction costs) per Consent Decree, payable to the Consent Decree Library.

Bruce S. Gelber,
Deputy Chief, Environmental Enforcement Section, Environment and Natural Resources Division.

[FR Doc. 00-19950 Filed 8-7-00; 8:45 am]

BILLING CODE 4410-15-M